DEPARTMENT OF TRANSPORTATION

Federal Aviation Administration

14 CFR Part 39

[Docket No. FAA-2009-0745; Directorate Identifier 2009-CE-036-AD]

RIN 2120-AA64

Airworthiness Directives; American Champion Aircraft Corp. Models 7ECA, 7GCAA, 7GCBC, 7KCAB, 8KCAB, and 8GCBC Airplanes

AGENCY: Federal Aviation Administration (FAA), Department of Transportation (DOT).

ACTION: Notice of Proposed Rulemaking (NPRM).

SUMMARY: We propose to adopt a new airworthiness directive (AD) for all American Champion Aircraft Corp. Models 7ECA, 7GCAA, 7GCBC, 7KCAB, 8KCAB, and 8GCBC airplanes, manufactured prior to 1989 and equipped with folding rear seat backs. This proposed AD would require inspection of the rear seat back hinge areas for cracking and excessive elongation of the rear seat hinge bolt hole and, if cracking or excessive elongation is found, replacement of the rear seat frame. This proposed AD results from an occurrence of the rear seat hinge area failing in flight. We are proposing this AD to detect and correct cracking of the rear seat back hinge area and excessive elongation of the rear seat hinge bolt hole, either of which could result in failure of the seat back. This failure could lead to a rear-seated pilot or passenger inadvertently interfering with the control stick while attempting to not roll to the rear of the airplane upon seat back failure. Consequently, this failure could result in loss of control.

DATES: We must receive comments on this proposed AD by September 28, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact American Champion Aircraft Corporation, P.O. Box 37, 32032 Washington Ave., Rochester, Wisconsin 53167; telephone: (262) 534-6315; fax: (262) 534-2395; Internet: http://www.amerchampionaircraft.com/Technical/Technical.html.

FOR FURTHER INFORMATION CONTACT: Wess Rouse, Aerospace Engineer, 2300 East Devon Avenue, Room 107, Des Plaines, Illinois 60018; telephone: (847) 294-8113; fax: (847) 294-7834.

SUPPLEMENTARY INFORMATION:

Comments Invited

We invite you to send any written relevant data, views, or arguments regarding this proposed AD. Send your comments to an address listed under the ADDRESSES section. Include the docket number, “FAA-2009-0745; Directorate Identifier 2009-CE-036-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We received information that during a training flight on an American Champion Aircraft Corp. Model 8KCAB airplane the rear seat hinge failed. While performing spins, with the student pilot in the front seat and the instructor pilot in the rear seat, the rear seat hinge broke, which resulted in the rear seat back failing. The instructor pilot partially fell into the baggage area. The student and the instructor were able to recover from the spins and landed safely at the airport.

The Models 7GCAA, 7GCBC, 7KCAB, and 8GCBC airplanes incorporate the same or similar seat configuration.

This condition, if not corrected, could result in failure of the rear seat back. This failure could lead to a rear-seated pilot or passenger inadvertently interfering with the control stick while attempting to not roll to the rear of the airplane upon seat back failure. Consequently, this failure could result in loss of control.

Relevant Service Information

We have reviewed American Champion Aircraft Corp. Service Letter No. 431, dated July 20, 2009.

The service information describes procedures for inspecting the rear seat hinge areas for cracking and excessive elongation of the rear seat hinge bolt and, if cracking or excessive elongation is found, replacing the rear seat frame.

FAA's Determination and Requirements of the Proposed AD

We are proposing this AD because we evaluated all information and determined the unsafe condition described previously is likely to exist or develop on other products of the same type design. This proposed AD would require inspecting the rear seat back hinge areas for cracking and excessive elongation of the rear seat hinge bolt hole and, if cracking or excessive elongation is found, replacing the rear seat frame.

Costs of Compliance

We estimate that this proposed AD would affect 2,000 airplanes in the U.S. registry.

We estimate the following costs to do the proposed inspection:

Labor cost | Parts cost | Total cost per airplane | Total cost on U.S. operators
.5 work-hour × $80 per hour = $40 | Not applicable | $40 | $80,000

We estimate the following costs to do any necessary replacements that would be required based on the results of the proposed inspection. We have no way of determining the number of airplanes that may need this replacement:

Labor cost | Parts cost | Total cost per airplane
1.5 work-hours × $80 per hour = $120 | Remanufactured seat $200, New standard seat $645, New wide seat $765 | Remanufactured seat $320, New standard seat $765, New wide seat $885.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

American Champion Aircraft Corp.: Docket No. FAA-2009-0745; Directorate Identifier 2009-CE-036-AD.

Comments Due Date

(a) We must receive comments on this airworthiness directive (AD) action by September 28, 2009.

Affected ADs

(b) None.

Applicability

(c) This AD applies to Models 7ECA, 7GCAA, 7GCBC, 7KCAB, 8KCAB, and 8GCBC airplanes, all serial numbers, that are:

(1) Manufactured prior to 1989;

(2) Equipped with folding rear seat backs; and

(3) Certificated in any category.

Unsafe Condition

(d) This AD results from an occurrence of the rear seat frame failing in flight. We are proposing this AD to detect and correct cracking of the rear seat back hinge area and excessive elongation of the rear seat hinge bolt hole, which could result in failure of the rear seat back. This failure could lead to a rear-seated pilot or passenger inadvertently interfering with the control stick while attempting to not roll to the rear of the airplane upon seat back failure. Consequently, this failure could result in loss of control.

Compliance

(e) To address this problem, you must do the following, unless already done:

Actions | Compliance | Procedures
(1) Inspect the rear seat back hinge area for cracking and elongation of the rear seat hinge bolt hole | Within the next 25 hours time-in-service (TIS) after the effective date of this AD and repetitively thereafter at intervals not to exceed every 100 hours TIS or every 12 months, whichever occurs first | Follow American Champion Aircraft Corp. Service Letter No. 431, dated July 20, 2009.
(2) If cracking or excessive elongation of the rear seat bolt hole is found during any inspection required in paragraph (e)(1) of this AD, replace the seat frame with a factory remanufactured seat frame, a new part number (P/N) 7-1500 (standard) seat frame, or a new P/N 7-1501 (wide) seat frame. Replacement of the seat frame terminates the repetitive inspections requirements of this AD | Before further flight after the inspection where cracking or excessive elongation of the rear seat bolt hole is found | Follow American Champion Aircraft Corp. Service Letter No. 431, dated July 20, 2009.
(3) You may at any time replace the rear seat frame with a factory remanufactured seat frame, a new part number (P/N) 7-1500 (standard) seat frame, or a new P/N 7-1501 (wide) seat frame to terminate the repetitive inspection requirements of this AD | Not applicable | Follow American Champion Aircraft Corp. Service Letter No. 431, dated July 20, 2009.

Alternative Methods of Compliance (AMOCs)

(f) The Manager, Chicago Aircraft Certification Office, FAA, has the authority to approve AMOCs for this AD, if requested using the procedures found in 14 CFR 39.19. Send information to ATTN: Wess Rouse, Aerospace Engineer, 2300 East Devon Avenue, Room 107, Des Plaines, Illinois 60018; telephone: (847) 294-8113; fax: (847) 294-7834. Before using any approved AMOC on any airplane to which the AMOC applies, notify your appropriate principal inspector (PI) in the FAA Flight Standards District Office (FSDO), or lacking a PI, your local FSDO.

Related Information

(g) To get copies of the service information referenced in this AD, contact American Champion Aircraft Corporation, P.O Box 37, 32032 Washington Ave., Rochester, Wisconsin 53167; telephone: (262) 534-6315; fax: (262) 534-2395; Internet: http://www.amerchampionaircraft.com/Technical/Technical.html. To view the AD docket, go to U.S. Department of Transportation, Docket Operations, M-30, West Building Ground Floor, Room W12-140, 1200 New Jersey Avenue, SE., Washington, DC 20590, or on the Internet at http://www.regulations.gov.

Issued in Kansas City, Missouri, on August 7, 2009.
Scott A. Horn,
Acting Manager, Small Airplane Directorate, Aircraft Certification Service.

[FR Doc. E9-19448 Filed 8-12-09; 8:45 am]

BILLING CODE 4910-13-P